DEPARTMENT OF TRANSPORTATION

Federal Aviation Administration

14 CFR Part 39

[Docket No. FAA-2005-22031; Directorate Identifier 2004-NM-259-AD]

RIN 2120-AA64

Airworthiness Directives; Meggitt Model 602 Smoke Detectors Approved Under Technical Standard Order (TSO) TSO-C1C and Installed on Various Transport Category Airplanes, Including But Not Limited to Aerospatiale Model ATR42 and ATR72 Airplanes; Boeing Model 727 and 737 Airplanes; McDonnell Douglas Model DC-10-10, DC-10-10F, DC-10-15, DC-10-30 and DC-10-30F (KC-10A and KDC-10), DC-10-40, DC-10-40F, MD-10-10F, MD-10-30F, MD-11, and MD-11F Airplanes

AGENCY: Federal Aviation Administration (FAA), Department of Transportation (DOT).

ACTION: Notice of proposed rulemaking (NPRM).

SUMMARY: The FAA proposes to adopt a new airworthiness directive (AD) for certain smoke detectors installed on various transport category airplanes. This proposed AD would require replacing the affected smoke detectors with modified smoke detectors. This proposed AD is prompted by a report indicating that the affected smoke detectors can “lock up” during electrical power transfer from the auxiliary power unit to the engines. We are proposing this AD to identify and provide corrective action for a potentially inoperative smoke detector and to ensure that the flightcrew is alerted in the event of a fire.

DATES: We must receive comments on this proposed AD by September 22, 2005.

ADDRESSES: Use one of the following addresses to submit comments on this proposed AD.

• DOT Docket Web site: Go to http://dms.dot.gov and follow the instructions for sending your comments electronically.

• Government-wide Rulemaking Web site: Go to http://www.regulations.gov and follow the instructions for sending your comments electronically.

• Mail: Docket Management Facility, U.S. Department of Transportation, 400 Seventh Street SW., Nassif Building, room PL-401, Washington, DC 20590.

• By Fax: (202) 493-2251.

• Hand Delivery: Room PL-401 on the plaza level of the Nassif Building, 400 Seventh Street SW., Washington, DC, between 9 a.m. and 5 p.m., Monday through Friday, except Federal holidays.

For service information identified in this proposed AD, contact Meggitt Safety Systems Inc., 1915 Voyager Avenue, Simi Valley, California 93063.

You can examine the contents of this AD docket on the Internet at http://dms.dot.gov, or in person at the Docket Management Facility, U.S. Department of Transportation, 400 Seventh Street SW., room PL-401, on the plaza level of the Nassif Building, Washington, DC. This docket number is FAA-2005-22031; the directorate identifier for this docket is 2004-NM-259-AD.

FOR FURTHER INFORMATION CONTACT: Ken Sujishi, Aerospace Engineer, Cabin Safety, Mechanical, and Environmental Branch, ANM-150L, FAA, Los Angeles Aircraft Certification Office, 3960 Paramount Boulevard, Lakewood, California 90712-4137; telephone (562) 627-5353; fax (562) 627-5210.

SUPPLEMENTARY INFORMATION:

Comments Invited

We invite you to submit any relevant written data, views, or arguments regarding this proposed AD. Send your comments to an address listed under ADDRESSES. Include “Docket No. FAA-2005-22031; Directorate Identifier 2004-NM-259-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that an unsafe condition may exist on transport category airplanes equipped with certain smoke detectors. The affected smoke detectors are Meggitt Model 602 smoke detectors approved under Technical Standard Order (TSO) TSO-C1C and having certain part numbers (P/Ns) 8930-( ). Testing indicated a design discrepancy involving the operation of these smoke detectors. During a test on McDonnell Douglas Model MD-11F airplanes, 31 of 33 smoke detectors “locked up” when the power to the smoke detectors was interrupted during power transfer from the auxiliary power unit (APU) to the engines. Investigation revealed that the smoke detector circuit does not meet power interrupt requirements during a power transfer between ground power, APU power, and main engine power sources on the airplane. When the smoke detector locks up, the flightcrew is unaware of the inoperative smoke detector unless they test the smoke detection system. The smoke detector remains inoperative until power to the unit is cycled off and on. Under these conditions, the flightcrew would not be alerted in the event of a fire.

This lock-up condition may also be produced by electrical power transfer on other airplanes equipped with an affected smoke detector. Included in that group are airplanes listed in the following table:

Affected Airplanes
Manufacturer | Model
Aerospatiale | ATR42 and ATR72 airplanes.
Boeing | 727 and 737 airplanes.
McDonnell Douglas | DC-10-10 and DC-10-10F; DC-10-15; DC-10-30 and DC-10-30F (KC-10A and KDC-10); and DC-10-40 and DC-10-40F airplanes.
| MD-10-10F and MD-10-30F airplanes.
| MD-11 and MD-11F airplanes.

Therefore, all of these airplanes may be subject to the identified unsafe condition.

Related AD

On January 12, 2005, we issued AD 2005-02-04, amendment 39-13949 (70 FR 3296, January 24, 2005), for all McDonnell Douglas Model MD-10-10F, MD-10-30F, MD-11F, DC-10-10F, and DC-10-30F airplanes. AD 2005-02-04 requires identifying the part number of the cargo compartment smoke detectors and, if necessary, revising the Limitations section of the airplane flight manual to include procedures for testing the smoke detection system after the last engine is started. That AD also provides for the optional replacement of the subject smoke detectors with modified smoke detectors, which would terminate the operational limitation.

Similar to this new proposed AD, AD 2005-02-04 was prompted by a report indicating that these smoke detectors can “lock up” during electrical power transfer from the APU to the engines. We issued that AD to identify and provide corrective action for a potentially inoperative smoke detector in the cargo compartment and to ensure that the flightcrew is alerted in the event of a cargo compartment fire.

When this new AD becomes effective, we will rescind AD 2005-02-04.

Relevant Service Information

We have reviewed Meggitt Safety Systems Service Information Letter (SIL) 8930-26-01, dated November 8, 2004. The SIL provides procedures for, among other things, replacing the affected smoke detectors with modified smoke detectors, which is intended to adequately address the unsafe condition.

FAA's Determination and Requirements of the Proposed AD

We have evaluated all pertinent information and identified an unsafe condition that is likely to exist or develop on other airplanes of this same type design. Therefore, we are proposing this AD, which would require accomplishing the actions specified in the service information described previously.

Costs of Compliance

It would take about 1 work hour per airplane, at an average hourly labor rate of $65, to replace a smoke detector installed on the airplane. Replacement parts would be provided at no cost to the operators. We have been advised that about 4,637 smoke detectors have already been replaced. We estimate that affected smoke detectors are installed on 318 U.S.-registered airplanes. There may be as many as 28 affected smoke detectors on an airplane. This proposed AD could cost as much as $1,820 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Transport Category Airplanes: Docket No. FAA-2005-22031; Directorate Identifier 2004-NM-259-AD.

Comments Due Date

(a) The Federal Aviation Administration (FAA) must receive comments on this AD action by September 22, 2005.

Affected ADs

(b) Accomplishment of certain actions required by this AD terminates certain requirements of AD 2005-02-04, amendment 39-13949.

Applicability: (c) This AD applies to Meggitt Model 602 smoke detectors approved under Technical Standard Order (TSO) TSO-C1C and having any P/N 8930-( ) identified in Meggitt Safety Systems Service Information Letter 8930-26-01, as installed on various transport category airplanes, certificated in any category, including but not limited to the airplane models listed in Table 1 of this AD.

Table 1.—Certain Affected Airplanes
Manufacturer | Model
Aerospatiale | ATR42-200, -300, -320, and -500 airplanes.
| ATR72-101, -201, -102, -202, -211, -212, and -212A airplanes.
Boeing | 727, 727C, 727-100, 727 -100C, 727-200, and 727-200F series airplanes.
| 737-100, -200, -200C, -300, -400, -500, -600, -700, -700C, -800 and -900 series airplanes.
McDonnell Douglas | DC-10-10 and DC-10-10F; DC-10-15; DC-10-30 and DC-10-30F, (KC-10A and KDC-10); and DC-10-40 and DC-10-40F airplanes.
| MD-10-10F and MD-10-30F airplanes.
| MD-11 and MD-11F airplanes.

Unsafe Condition

(d) This AD is prompted by a report indicating that the affected smoke detectors can “lock up” during electrical power transfer from the auxiliary power unit (APU) to the engines. We are issuing this AD to identify and provide corrective action for a potentially inoperative smoke detector and to ensure that the flightcrew is alerted in the event of a fire.

Compliance: (e) You are responsible for having the actions required by this AD performed within the compliance times specified, unless the actions have already been done.

Smoke Detector Identification/Replacement

(f) Within 6 months after the effective date of this AD, replace the affected smoke detector with a modified smoke detector, in accordance with Meggitt Safety Systems Service Information Letter 8930-26-01.

Effect on AD 2005-02-04

(g) For airplanes subject to the requirements of AD 2005-02-04: After all affected smoke detectors have been replaced with modified smoke detectors in accordance with paragraph (f) of this AD, the operational limitation required by paragraph (h) of AD 2005-02-04 is terminated and may be removed from the airplane flight manual.

Parts Installation

(h) As of the effective date of this AD, no person may install on any airplane a Meggitt Model 602 smoke detector having any P/N 8930-( ) identified in Meggitt Service Information Letter 8930-26-01, dated November 8, 2004.

Alternative Methods of Compliance (AMOCs)

(i) The Manager, Los Angeles Aircraft Certification Office, FAA, has the authority to approve AMOCs for this AD, if requested in accordance with the procedures found in 14 CFR 39.19.

Issued in Renton, Washington, on August 1, 2005.
Ali Bahrami,
Manager, Transport Airplane Directorate, Aircraft Certification Service.

[FR Doc. 05-15590 Filed 8-5-05; 8:45 am]

BILLING CODE 4910-13-P